Proclamation 10676 of November 17, 2023

National Child's Day, 2023

By the President of the United States of America

A Proclamation

Our Nation's children are the kite strings that keep our national ambitions aloft—they are the dreamers and doers, who will determine the course of our future. From an early age, young people lead the way by volunteering in their communities, modeling compassion and tolerance, and pushing us to address the critical issues of our time like climate change and gun violence. This generation of young people is the most gifted, tolerant, talented, and educated in American history. They are the reason I am so optimistic about the future. On National Child's Day, we recommit to ensuring that every child has the resources and opportunities they need to reach their full potential.

That is why my Administration has invested billions of dollars in America's schools. These funds are putting more teachers in our classrooms, supporting tutoring programs, financing building renovations, replacing lead pipes, and more. Our Bipartisan Infrastructure Law is expanding access to reliable high-speed internet so every student can log on at any time, regardless of their zip code.

We are also prioritizing the health and safety of our children. By expanding the Child Tax Credit, my Administration cut the child poverty rate nearly in half, and I continue to call on the Congress to reinstate this expansion because no child should grow up in poverty. We are also working to lower the cost of health care and expand access to affordable, nutritious meals for millions of families. My Administration released a national strategy to end hunger and reduce diet-related diseases in America by 2030—including advancing a pathway to provide free, healthy school meals for all children. New vaccines are rolling out that protect children against COVID-19, RSV, and the flu, which you can learn more about at www.vaccines.gov. We are also supporting LGBTQI+ children and families by safeguarding access to health care and preventing harmful so-called “conversion therapy.” Further, we are working with State child welfare agencies to make sure LGBTQI+ youth are placed in safe and loving homes. To curb the epidemic of gun violence in America—now the leading cause of death of children in the United States—I was proud to sign into law the most significant gun safety legislation in nearly 30 years. This law will save children's lives, but we cannot stop until we finally pass an assault weapons ban.

Mental health is just as important as physical health, which is why I am addressing the youth mental health crisis head-on. My Administration has advanced measures to increase the number of school psychologists and counselors available to our kids and to make it easier for schools to use Medicaid to deliver mental health care, including services under the Individuals with Disabilities Education Act. We also proposed a rule that would require insurers to finally cover mental health care just as they do physical care. Further, we must do more to make the internet a safe place for children. I have called on the Congress to limit the personal data that tech companies collect, ban targeted advertising directed at minors, and strengthen protections that safeguard children's health and safety online.

Finally, all this progress means little if our children do not inherit a healthy planet. That is why I fought so hard to pass the Inflation Reduction Act, a landmark bill that contains the largest investment to tackle climate change in history. The Act will help our children breathe cleaner air and drink cleaner water. It is also creating the jobs of the future so our kids can graduate into a strong clean energy economy.

Every child deserves the opportunity to thrive because when they dream big, our whole Nation is opened to new possibilities. The children of today are the global leaders of tomorrow. That is why this National Child's Day, we recommit to fulfilling the promise of America for every child and building a future worthy of their dreams.

NOW, THEREFORE, I, JOSEPH R. BIDEN JR., President of the United States of America, by virtue of the authority vested in me by the Constitution and the laws of the United States, do hereby proclaim November 20, 2023, as National Child's Day. I call upon all government officials, educators, volunteers, and all the people of the United States of America to observe this day with appropriate programs, ceremonies, and activities.

IN WITNESS WHEREOF, I have hereunto set my hand this seventeenth day of November, in the year of our Lord two thousand twenty-three, and of the Independence of the United States of America the two hundred and forty-eighth.

[FR Doc. 2023-25985

Filed 11-21-23; 8:45 am]

Billing code 3395-F4-P